DEPARTMENT OF THE TREASURY

Office of Foreign Assets Control

Notice of OFAC Sanctions Action

AGENCY: Office of Foreign Assets Control, Department of the Treasury.

ACTION: Notice

SUMMARY: The U.S. Department of the Treasury's Office of Foreign Assets Control (OFAC) is publishing the names of one or more persons whose property and interests in property have been unblocked and who have been removed from OFAC's Specially Designated Nationals and Blocked Persons List (SDN List).

DATES: This action was issued on November 7, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov/.

Notice of OFAC Action

On November 7, 2025, OFAC determined that the property and interests in property subject to U.S. jurisdiction of the following person, designated pursuant to Executive Order 13224 of September 23, 2001 are unblocked and they have been removed from the SDN List.

Individual

1. KHATTAB, Anas Hasan (a.k.a. ABU HAMZAH; a.k.a. AL-KHAYAT, Samir Ahmed; a.k.a. “HANI”); DOB 07 Apr 1986; POB Damascus, Syria; Secondary sanctions risk: section 1(b) of Executive Order 13224, as amended by Executive Order 13886; National ID No. 00351762055 (individual) [SDGT].

Bradley T. Smith,
Director, Office of Foreign Assets Control.

[FR Doc. 2025-20300 Filed 11-18-25; 8:45 am]

BILLING CODE 4810-AL-P